DEPARTMENT OF STATE

[Public Notice 5114]

Bureau of Political-Military Affairs; Notice of Information Collection Under Emergency Review: Form DS-4076; Request for Commodity Jurisdiction (CJ)/U.S. Munitions List (USML) Determination; OMB Control Number 1405-XXXX

AGENCY: Department of State.

ACTION: Notice.

SUMMARY: The Department of State has submitted the following information collection request to the Office of Management and Budget (OMB) for review and approval in accordance with the emergency review procedures of the Paperwork Reduction Act of 1995.

• Type of Request: Emergency Review.

• Originating Office: Bureau of Political-Military Affairs, Directorate of Defense Trade Controls, (PM/DDTC).

• Title of Information Collection: Request for Commodity Jurisdiction (CJ)/U.S. Munitions List (USML) Determination.

• OMB Control Number: None.

• Frequency: Once per year per respondent.

• Form Number: DS-4076.

• Respondents: Business organizations.

• Estimated Number of Respondents: 300.

• Estimated Number of Responses: 300.

• Average Hours Per Response: 2 hours.

• Total Estimated Burden: 600 hours.

• Obligation to Respond: Voluntary.

The proposed information collection is published to obtain comments from the public and affected agencies. Emergency review and approval of this collection has been requested from OMB by July 29, 2005. If granted, the emergency approval is only valid for 180 days. Comments should be directed to the State Department Desk Officer, Office of Information and Regulatory Affairs, Office of Management and Budget (OMB), Washington, DC 20530, who may be reached on 202-395-7316.

You may submit comments by any of the following methods:

• E-mail: Katherine_T._Astrich@omb. eop.gov. You must include the form number (DS-4076) and information collection title in the subject line of your message.

• Hand Delivery or Courier: OIRA State Department Desk Officer, Office of Management and Budget, 725 17th Street, NW., Washington, DC 20503.

• Fax: 202-395-6974.

SUPPLEMENTARY INFORMATION: During the first 60 days of this same period a regular review of this information collection is also being undertaken. Comments are encouraged and will be accepted until 60 days from the date that this notice is published in the Federal Register. The agency requests written comments and suggestions from the public and affected agencies concerning the proposed collection of information. Your comments are being solicited to permit the agency to:

• Evaluate whether the proposed collection of information is necessary for the proper performance of the functions of the agency, including whether the information will have practical utility.

• Evaluate the accuracy of the agency's estimate of the burden of the proposed collection, including the validity of the methodology and assumptions used.

• Enhance the quality, utility, and clarity of the information to be collected.

• Minimize the reporting burden on those who are to respond, including through the use of automated collection techniques or other forms of technology.

Abstract of proposed collection: The information will be used to evaluate whether or not a particular article is covered by the U.S. Munitions List; to change the U.S. Munitions List category designation; to confirm the U.S. Munitions List Category designation; to remove a defense article from the U.S. Munitions List; or to reconsider a previous commodity jurisdiction determination.

For Additional Information: Public comments, or requests for additional information, regarding the collection listed in this notice should be directed to Angelo Chang, Acting Director, Office of Defense Trade Controls Management, Directorate of Defense Trade Controls, Bureau of Political-Military Affairs, SA-1, Room H1200, 2401 E. Street, NW., Washington, DC 20522-0112, (202) 663-2700. E-mail: ChangAA@state.gov.

Dated: May 5, 2005.
Gregory M. Suchan,
Deputy Assistant Secretary for Defense Trade Controls, Bureau of Political-Military Affairs, Department of State.

[FR Doc. 05-12091 Filed 6-17-05; 8:45 am]

BILLING CODE 4710-25-P